DEPARTMENT OF JUSTICE

Executive Office for Immigration Review; Agency Information Collection Activities: Proposed Extension of Currently Approved Collection; Comments Requested

ACTION: 30-day notice of information collection under review; extension of currently approved collection; Notice of Entry of Appearance as Attorney or Representative Before the Immigration Court.

The United States Department of Justice, Executive Office for Immigration Review, has submitted the following request for extension of currently approved information collection to the Office of Management and Budget for review and approval in accordance with the Paperwork Reduction Act of 1995. The proposed extension of information collection is published to obtain comments from the public and affected agencies. The proposed information collection was previously published in the Federal Register (Volume 67, Number 202, Pages 64412-64413) on October 18, 2002, allowing for a 60-day comment period.

The purpose of this notice is to allow for an additional 30 days for public comment until January 22, 2003. This process is in accordance with 5 CFR 1320.10.

Written comments and/or suggestions regarding the times contained in this notice, especially the estimated public burden and associated response time, should be directed to the Office of Management and Budget, Office of Information and Regulatory Affairs, Attention Department of Justice Desk Officer, Washington, DC 20503.

Written comments and suggestions from the public and affected agencies concerning the proposed extension of a currently approved information collection instrument are encouraged. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology (e.g., permitting electronic submission of responses).

Overview of this information collection:

(1) Type of Information Collection: Extension of Currently Approved Collection.

(2) Title of the Form/Collection: Notice of entry of Appearance as Attorney or Representative Before the Immigration Court.

(3) Agency form number, if any, and the applicable component of the Department of Justice sponsoring the collection: Form EOIR-28, Executive Office for Immigration Review, U.S. Department of Justice.

(4) Affected public who will be asked to respond, as well as a brief abstract: Primary: Individuals. Other: Business or other for-profit; not-for-profit institutions. The information collected on EOIR-28 will be used (i) to determine whether or not a responding attorney or representative meets the regulatory criteria necessary to be authorized to represent aliens before the Immigration Court, (ii) to provide the responding represented party an opportunity to expressly consent to such representation and to release of Executive Office for Immigration Review records to the representative, and (iii) to notify the Immigration and Naturalization Service and the Executive Office for Immigration Review of such representation.

(5) An estimate of the total number of respondents and the amount of time estimated for an average respondent to respond: Estimated at 77,000 responses per year at 6 minutes per response.

(6) An estimate of the total public burden (in hours) associated with the collection: Estimated at 7,700 annual burden hours.

If additional information is required contact: Mr. Robert B. Briggs, Clearance Officer, United States Department of Justice, Information Management and Security Staff, Justice Management Division, 601 D Street, NW., Washington, DC 20004.

Dated: December 18, 2002.
Robert B. Briggs,
Clearance Officer, U.S. Department of Justice.

[FR Doc. 02-32249 Filed 12-20-02; 8:45 am]

BILLING CODE 4410-30-M